DEPARTMENT OF TRANSPORTATION

Maritime Administration

[Docket No. MARAD-2021-0124]

Request for Comments of a Previously Approved Information Collection: Application and Reporting Elements for Participation in the Maritime Security Program

AGENCY: Maritime Administration, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on April 7, 2021.

DATES: Comments must be submitted on or before August 5, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Rhonda Davis, 202-366-6379, Office of Sealift Support, Maritime Administration, U.S. Department of Transportation, 1200 New Jersey Avenue SE, Room W23-343, Washington, DC 20590.

SUPPLEMENTARY INFORMATION:

Title: Application and Reporting Elements for Participation in the Maritime Security Program.

OMB Control Number: 2133-0525.

Type of Request: Renewal of a Previously Approved Information Collection.

Background: The Maritime Security Act of 2003 extended under Section 3508 of the National Defense Authorization Act for Fiscal Year 2013, Public Law 112-239 provides for the enrollment of qualified vessels in the Maritime Security Program Fleet. Applications and amendments are used to select vessels for the fleet. Periodic reporting is used to monitor adherence of contractors to program parameters.

Respondents: Vessel Operators.

Affected Public: Business or other for profit.

Total Estimated Number of Responses: 212.

Frequency of Collection: Monthly/Annually.

Estimated Time per Respondent: 1-6 hours.

Total Estimated Number of Annual Burden Hours: 308.

Public Comments Invited: Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

(Authority: The Paperwork Reduction Act of 1995; 44 U.S.C. Chapter 35, as amended; and 49 CFR 1.93)

* * * * *

By Order of the Acting Maritime Administrator.
T. Mitchell Hudson, Jr.,
Secretary, Maritime Administration.

[FR Doc. 2021-14321 Filed 7-2-21; 8:45 am]

BILLING CODE 4910-81-P